TENNESSEE VALLEY AUTHORITY

Supplemental Environmental Impact Statement: Browns Ferry Nuclear Plant Operating License Renewal

AGENCY: Tennessee Valley Authority.

ACTION: Notice of intent.

SUMMARY: This notice is provided in accordance with the Council on Environmental Quality's regulations (40 CFR parts 1500-1508) and TVA's procedures for implementing the National Environmental Policy Act. The Tennessee Valley Authority (TVA) will prepare a supplemental environmental impact statement (SEIS) to address the environmental impacts associated with obtaining license extensions for the Browns Ferry Nuclear Plant (BFN) located in Limestone County, Alabama. Renewal of the operating licenses will allow the plant to continue to operate for an additional 20 years beyond the expiration dates of the current operating licenses. The regulations of the Nuclear Regulatory Commission (NRC) in 10 CFR part 54 set forth the applicable license extension requirements. This SEIS will also consider the impacts of the possible restart of Unit 1, which has been in a non-operational status since 1985, with an extended operating license. At this early stage, TVA contemplates that the action alternatives in the EIS could include a combination of license renewal and restart of Unit 1. The no-action alternative considered is a decision by TVA to not seek renewal of the operating licenses for the BFN units. Public comment is invited concerning both the scope of alternatives and environmental issues that should be addressed as part of the SEIS.

DATES: Comments on the scope of the SEIS must be postmarked or e-mailed no later than March 23, 2001 to ensure consideration.

ADDRESSES: Written comments or e-mails on the scope of issues to be addressed in the SEIS should be sent to Bruce L. Yeager, Senior Specialist, National Environmental Policy Act, Environmental Policy and Planning, Tennessee Valley Authority, 400 West Summit Hill Drive, Mail Stop WT 8C-K, Knoxville, Tennessee 37902 (e-mail: blyeager@tva.gov).

FOR FURTHER INFORMATION CONTACT: Charles L. Wilson, Nuclear Licensing Staff, Tennessee Valley Authority, 1101 Market Street, Mail Stop BR 4X-C, Chattanooga, Tennessee, 37402 (e-mail: clwilson@tva.gov), Roy V. Carter, Tennessee Valley Authority, Mail Stop CEB 4C-M, Muscle Shoals, Alabama, 35662 (e-mail: rvcarter@tva.gov) or Bruce Yeager, Tennessee Valley Authority, 400 West Summit Hill Drive, Mail Stop WT 8C-K, Knoxville, Tennessee 37902 (e-mail: blyeager@tva.gov).

SUPPLEMENTARY INFORMATION:

Background

The proposal to renew the operating licenses for the Browns Ferry Nuclear Plant (BFN) was part of a system-wide evaluation of future power needs. A range of options to meet those needs was evaluated in TVA's Integrated Resource Plan and Environmental Impact Statement, Energy Vision 2020, released on December 21, 1995.

The Final Environmental Statement for BFN was published in 1972. BFN was TVA's first nuclear power plant. The facility is located on an 840-acre tract adjacent to Wheeler Reservoir in Limestone County, Alabama, 10 miles southwest of Athens, Alabama. BFN has three General Electric boiling water reactors and associated turbine-generators that can produce more than 3,000 megawatts (MW) of power. Unit 1 began commercial operation in August 1974, Unit 2 in 1975 and Unit 3 in 1977. An extended shutdown of all units at Browns Ferry began in 1985 to review the TVA nuclear power program. Unit 2 returned to service in May 1991 and Unit 3 in November 1995. Unit 1 has been idled since 1985, and changes would be necessary prior to restarting the unit. The current operating characteristics of Units 2 and 3 are considered representative of future operations at Browns Ferry because of the changes in personnel, procedures, and equipment that occurred during and following the extended regulatory outage which began in 1985. For example, since return to service from the regulatory outage, Units 2 and 3 have performed well with consistently higher levels of availability and generating capacity than before the outage.

Proposed Action

TVA proposes to submit an application to the Nuclear Regulatory Commission (NRC) requesting renewal of BFN operating licenses. Renewal of the current operating licenses would permit operation for an additional twenty years past the current (original) 40-year operating license terms which expire in 2014 and 2016 for Units 2 and 3, respectively. The Unit 1 operating license expires in 2013. License renewal of the operating BFN facilities does not involve new major construction or modifications beyond normal maintenance and minor refurbishment.

The SEIS will also examine the impacts associated with the possible recovery and restart of Unit 1, which has been in a non-operational status for 15 years. Among the impacts to be examined in this SEIS are those resulting from thermal (heat) discharges to Wheeler Reservoir associated with three-unit operation. The cooling capaicity necessary to mitigate thermal impacts under the various alternatives would also be examined in the SEIS. Other aspects of the actions under consideration include the impacts associated with a spent fuel storage facility and a few new office buildings.

Independent of the matters considered in the SEIS, TVA is considering a project which would uprate the maximum operating power level of Units 2 and 3 to 120 percent of their originally licensed power levels. If this project is approved, the various alternatives in the SEIS will be modified as appropriate to reflect the higher operating levels. If Unit 1 is returned to service, it is currently contemplated that it would also be operated at 120 percent of its originally licensed power level. Additional information about the uprate project is available from the contacts listed above.

Range of Alternatives

As required by Council on Environmental Quality (CEQ) regulations (40 CFR 1502.14), TVA will evaluate a reasonable range of alternatives in this SEIS. Action alternatives TVA is currently considering include license extensions for Units 2 and 3 to continue power operation for an additional 20 years, and the possible return to service of Unit 1 with a 20-year license extension. TVA will also consider a “no action” alternative which would be a decision by the TVA Board of Directors to not pursue license renewal. Under the no action alternative the plant would cease to produce power and TVA would choose one of the decommissioning options. Under this alternative, the power no longer being produced by Browns Ferry may or may not be generated or obtained by other means.

Preliminary Identification of Environmental Issues

This SEIS will discuss the need to continue to operate the plant and will describe the existing environmental, cultural, recreational, and socioeconomic resources. The SEIS will consider the potential environmental impacts resulting from refurbishment, operation and maintenance of the existing facilities, as well as any additional impacts from returning Unit 1 to service. TVA's evaluation of environmental impacts to resources will include, but not necessarily be limited to, the potential impacts on air quality, surface and ground water quality and resources, vegetation, wildlife, aquatic ecology, endangered and threatened species, floodplains, wetlands and wetland wildlife, aesthetics and visual resources, land use, cultural and historic resources, light, noise, socioeconomics, transportation, spent fuel management, and radiological impacts. These concerns and other important issues identified during the scoping process will be addressed as appropriate in the SEIS.

Additionally, TVA will review the Generic Environmental Impact Statement for License Renewal of Nuclear Plants (GEIS), NUREG-1437, in which the U.S. Nuclear Regulatory Commission (NRC) considered the environmental effects of renewing nuclear power plant operating licenses for a 20-year period (results are codified in 10 CFR Part 51). The GEIS identifies 92 environmental issues and reaches generic conclusions on environmental impacts for 69 of those issues that apply to all plants or to plants with specific design or site characteristics. It is expected that the generic assessment in NRC's EIS would be relevant to the assessment of impacts of the proposed actions at the Browns Ferry Plant. Information from NRC's EIS that is relevant to the current assessment would be incorporated by reference following the procedures described in 40 CFR 1502.21. Alternatively, TVA may choose to tier off this EIS after first adopting this EIS in accordance with 40 CFR 1506.3. Additional plant-specific review would likely be necessary for the remaining issues, which are encompassed by the range of resource issue areas identified above.

Public Participation

This Supplemental Environmental Impact Statement (SEIS) is being prepared to provide the public an opportunity to provide input to TVA's assessment of the environmental impacts of the suite of proposals at BFN including the request for license renewal and the possible return to service of Unit 1. The SEIS will also serve to inform the public and the decision-makers of the reasonable alternatives that would minimize adverse impacts.

The scoping process will include both interagency and public scoping. The agencies expected to participate in interagency scoping include the U.S. Army Corps of Engineers, U.S. Fish and Wildlife Service, various State of Alabama agencies including the Department of Environmental Management, and other federal, state and local agencies as appropriate.

The public is invited to submit written comments or e-mail comments on the scope of this SEIS no later than the date given under the DATES section of this notice.

Comments may also be provided in an oral or written format at the public scoping meeting. TVA will conduct a public meeting on the scope of the SEIS in Limestone County, Alabama, on Tuesday, March 6, 2001. The meeting will be held at the Aerospace Technology Building Auditorium on the campus of Calhoun State Community College on Highway 31 North. Registration for the meeting will be from 6 to 6:30 p.m. There will be visual displays and information handouts available during the registration period. The meeting will begin with brief presentations by TVA staff explaining the SEIS process and the proposed license renewal project. Following these presentations there will be group discussions facilitated by staff of TVA and Calhoun State Community College to record the issues and concerns that the public believes should be considered in the SEIS.

Upon consideration of the scoping comments, TVA will develop alternatives and identify important environmental issues to be addressed in the SEIS. Following analysis of the environmental consequences of each alternative, TVA will prepare a draft SEIS for public review and comment. Notice of availability of the draft SEIS will be published in the Federal Register. TVA will solicit written comments on the draft SEIS through this Federal Register notice. Any meetings that are scheduled to comment on the draft SEIS will be announced by TVA. TVA expects to release a final SEIS by January 2002.

Dated: February 9, 2001.
Kathryn J. Jackson,
Executive Vice President, River System Operations & Environment.

[FR Doc. 01-3823 Filed 2-14-01; 8:45 am]

BILLING CODE 8120-08-U